DEPARTMENT OF DEFENSE

Office of the Secretary

Strategic Advisory Group Meeting of the U.S. Strategic Command

AGENCY: Department of Defense, USSTRATCOM.

ACTION: Notice of closed meeting.

SUMMARY: The Strategic Advisory Group (SAG) will meet in a closed session on 24 and 25 October 2002.

The mission of the SAG is to provide timely advice on scientific, technical, intelligence, and policy-related issues to the Commander, U.S. Strategic Command, during the development of the Nation's war plans. Full development of the topics will require discussion of information classified in accordance with Executive Order 12958, dated April 17, 1995. Access to this information must be strictly limited to personnel having requisite security clearances and specific need-to-know. Unauthorized disclosure of the information to be discussed at the SAG meeting could have exceptionally grave impact on national defense.

In accordance with section 10(d) of the Federal Advisory Committee Act (5 U.S.C., section 552b(c), and that, accordingly, this meeting will be closed.

DATES: 24 and 25 October 2002.

ADDRESSES: USSTRATCOM, 901 SAC Boulevard, Suite 1F7, Offutt Air Force Base, NE 68113-6030.

FOR FURTHER INFORMATION CONTACT: Connie Druskis at (402) 294-4102.

SUPPLEMENTARY INFORMATION: Joint Staff POC, Mr. Mahar (703) 614-6465.

Dated: September 11, 2002.
Patricia L. Toppings,
Alternate OSD Federal Register Liaison Officer, Department of Defense.

[FR Doc. 02-23646 Filed 9-17-02; 8:45 am]

BILLING CODE 5001-08-M